DEPARTMENT OF DEFENSE

Department of the Army

Interim Change to the Military Freight Traffic Unified Rules Publication (MFTURP) No. 1

AGENCY: Department of the Army, DoD.

SUMMARY: The Military Surface Deployment and Distribution Command (SDDC) is providing notice that it released an interim change to the MFTURP No. 1 on February 17, 2010. The interim change removes Motor Surveillance Service (MVS) from Item 107 and replaces Item 107 with Trailer Tracking Service (DCS). The change also updates Item 111, Satellite Motor Surveillance Service (SNS).

ADDRESSES: Submit comments to Publication and Rules Manager, Strategic Business Directorate, Business Services, 661 Sheppard Place, Attn: SDDC-OPM, Fort Eustis, VA 23604-1644. Request for additional information may be sent by e-mail to: chad.t.privett@us.army.mil.

FOR FURTHER INFORMATION CONTACT: Mr. Chad Privett, (757) 878-8161.

SUPPLEMENTARY INFORMATION: Reference: Military Freight Traffic Unified Rules Publications (MFTURP) No. 1.

Background: The MFTURP No. 1 governs the purchase of surface freight transportation in the Continental United States (CONUS) by DoD using Federal Acquisition Regulation (FAR) exempt transportation service contracts.

Motor Surveillance Service (MVS) has been removed from the MFTURP-1 because it is a Transportation Protective Service (TPS) that is no longer used.

Trailer Tracking Service (DCS) is a new TPS that augments Satellite Monitoring Service (SNS) for Security Risk Category (SRC) I-IV motor shipments travelling via closed-box-van trailers. SNS only allows the Defense Transportation Tracking System (DTTS) to track a Transportation Service Provider's (TSP) tractor. With the addition of DCS, DTTS will now be alerted if the closed-box-van trailer has been unhooked from the tractor or if the trailer's door has been opened while in transit.

The Satellite Motor Surveillance Service verbiage has been updated in order to reflect current SNS operating procedures.

Miscellaneous: This publication, as well as the other SDDC publications, can be accessed via the SDDC Web site at: http://www.sddc.army.mil/Public/Global%20Cargo%20Distribution/Domestic/Publications/.

C.E. Radford, III,
Division Chief, G9, Strategic Business Directorate.

[FR Doc. 2010-4814 Filed 3-5-10; 8:45 am]

BILLING CODE 3710-08-P